ENVIRONMENTAL PROTECTION AGENCY

[EPA-HQ-OW-2006-0369; FRL 9904-80-OEI]

Information Collection Request Submitted to OMB for Review and Approval; Comment Request; National Estuary Program (Renewal)

AGENCY: Environmental Protection Agency (EPA).

ACTION: Notice.

SUMMARY: The Environmental Protection Agency has submitted an information collection request (ICR), “National Estuary Program” (EPA ICR No. 1500.08, OMB Control No. 2040-0138) to the Office of Management and Budget (OMB) for review and approval in accordance with the Paperwork Reduction Act (44 U.S.C. 3501 et seq.). This is a proposed extension of the ICR, which is currently approved through January, 2014. Public comments were previously requested via the Federal Register (78 FR 46332-02) on July 31, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 12, 2014.

ADDRESSES: Submit your comments, referencing Docket ID Number EPA-HQ-OW-2006-0369 to (1) EPA online using www.regulations.gov (our preferred method), by email to OW-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: John McShane, Oceans and Coastal Protection Division, Office of Wetlands, Oceans, and Watersheds, Mail Code 4504T, Environmental Protection Agency, 1200 Pennsylvania Ave. NW., Washington, DC 20460; telephone number: 202-566-1381; fax number: 202-566-1336; email address: mcshane.john@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The National Estuary Program (NEP) involves collecting information from the state or local agency or nongovernmental organizations that receive funds under Sec. 320 of the Clean Water Act (CWA). The regulation requiring this information is found at 40 CFR part 35. Prospective grant recipients seek funding to develop or oversee and coordinate implementation of Comprehensive Conservation Management Plans (CCMPs) for estuaries of national significance. In order to receive funds, grantees must submit an annual workplan to EPA which are used to track performance of each of the 28 estuary programs currently in the NEP.

EPA provides funding to NEPs to support long-term implementation of CCMPs if such programs pass a program evaluation process. The primary purpose of the program evaluation process is to help EPA determine whether the 28 programs included in the National Estuary Program (NEP) are making adequate progress implementing their CCMPs and therefore merit continued funding under Sec. 320 of the Clean Water Act. EPA also requests that each of the 28 NEPs receiving Sec. 320 funds report information that can be used in the GPRA reporting process. This reporting is done on an annual basis and is used to show environmental results that are being achieved within the overall NEP Program. This information is ultimately submitted to Congress along with GPRA information from other EPA programs.

Form Numbers: None.

Respondents/Affected Entities: Entities potentially affected by this action are those state or local agencies or nongovernmental organizations in the National Estuary Program (NEP) who receive grants under Section 320 of the Clean Water Act.

Respondent's Obligation to Respond: Required to obtain or retain a benefit (Section 320 of the Clean Water Act).

Estimated Number of Respondents: 28 (total).

Frequency of Response: Annual.

Total Estimated Burden: 4,900 hours (per year). Burden is defined at 5 CFR 1320.03(b)

Total Estimated Cost: $221,970 (per year), includes $0 annualized capital or operation & maintenance costs.

Changes in the Estimates: There is decrease of 933 hours in the total estimated respondent burden compared with the ICR currently approved by OMB. This decrease is due to the fact that the respondents are not required to submit a program evaluation package in 2016, as a result of modifications made by EPA to the Program Evaluation Guidance and a redistribution of the number of NEPs to be reviewed each evaluation cycle.

John Moses,
Director, Collection Strategies Division.

[FR Doc. 2014-00376 Filed 1-10-14; 8:45 am]

BILLING CODE 6560-50-P